DEPARTMENT OF AGRICULTURE

Agricultural Marketing Service

[Docket No. AMS-DA-10-0070; DA-10-06]

Notice of Request for an Extension and Revision of a Currently Approved Information Collection

AGENCY: Agricultural Marketing Service, USDA.

ACTION: Notice and request for comments; correction.

SUMMARY: The Agricultural Marketing Service published a document in the Federal Register of October 1, 2010, concerning a request for approval from the Office of Management and Budget for an extension of and revision to a currently approved information collection for the National Research, Promotion, and Consumer Information Programs. The document contained incorrect dates.

FOR FURTHER INFORMATION CONTACT: Whitney A. Rick, 202-720-6909.

Correction:

In the Federal Register of October 1, 2010, in FR Doc. 2010-24627, on page 60712, in the second column, correct the “Title” caption in the SUPPLEMENTARY INFORMATION to read:

SUPPLEMENTARY INFORMATION:

Title: National Research, Promotion, and Consumer Information Programs.

OMB Number: 0581-0093.

Expiration Date, as approved by OMB: 3/31/2011.

Dated: November 2, 2010.
David R. Shipman,
Acting Administrator, Agricultural Marketing Service.

[FR Doc. 2010-28047 Filed 11-4-10; 8:45 am]

BILLING CODE 3410-02-P